DEPARTMENT OF AGRICULTURE

Forest Service

Long Rail Project; Chequamegon-Nicolet National Forest; Florence and Forest Counties, WI

AGENCY: Forest Service, USDA.

ACTION: Notice of intent to prepare an environmental impact statement.

SUMMARY: The USDA Forest Service, Chequamegon-Nicolet National Forest, Eagle River-Florence Ranger District intends to prepare an environmental impact statement (EIS) to disclose the environmental consequences of a vegetation and transportation management project. In the EIS the USDA Forest Service will address the potential environmental impacts associated with the proposed land management activities and corresponding alternatives.

The Long Rail Project Area is approximately 74,800 acres in size and is located in Forest and Florence Counties, 17 miles west of Florence, Wisconsin. National Forest System lands comprise about 54,300 acres within the project area boundary. The approximate legal description for the area is as follows: T38N R13E Sections 1, 12, 13; T38N R14E Sections 1-11, 18; T38N R15E Sections 1-12, 14-17, 20-22; T39N R13E Sections 1, 12-13, 24-25, 36; T39N R14E Sections 1-36; T39N R15E Sections 4-7, 18-22, 25-36; T40N R13E Sections 25, 36; T40N R14E Sections 29-32, 24-26, 35-36; T40N R15E Sections 2-4, 7-11, 14-23, 25-33; T41N R15E Sections 22-23, 26-27, 34-35 see the SUPPLEMENTARY INFORMATION section for the purpose and need for the action.

DATES: Comments concerning the scope of the analysis should be received within 30 days following publication of this notice to receive timely consideration in the preparation of the draft EIS. The draft EIS is expected April 2006 and the final EIS is expected September 2006.

ADDRESSES: Send written comments to Anne Archie, c/o Christine Brunner, NEPA Coordinator, Eagle River-Florence Ranger District, 1247 E. Wall Street, Eagle River, WI 54521. Send electronic comments to: comments-eastern-chequamegon-nicolet-eagle@fs.fed.us.See SUPPLEMENTARY INFORMATION section for information on how to send electronic comments.

FOR FURTHER INFORMATION CONTACT: Debra Kidd, Eagle River-Florence Ranger District, Chequamegon-Nicolet National Forest, USDA Forest Service: telephone 715-479-2827. See above under ADDRESSES. Copies of documents may be requested at the same address. Another means of obtaining information is to visit the Forest Web page at http://www.fs.fed.us/r9/cnnf/—click on “Natural Resources,” then “Long Rail Project.”

SUPPLEMENTARY INFORMATION: Purpose and Need for Action—The overall purpose of the Long Rail Project is to implement land management activities consistent with the direction in the 2004 Chequamegon-Nicolet National Forest Land and Resource Management Plan (2004 Forest Plan) and to respond to the specific needs that were identified during opportunity area and transportation system analyses.

One purpose for this proposal is to maintain or restore upland forest communities and openings to their desired conditions as described in Chapter 3 (Forest Plan Objective 1.4a) by addressing the following needs: (1) Improve aquatic ecosystems; (2) maintain short-needled conifer habitat; (3) maintain continuous uneven-aged northern hardwood forests; (4) maintain forest types; (5) maintain permanent openings; (6) improve northern hardwood forest structure; (7) reduce northern hardwood and conifer stocking density; and (8) improve aspen age class distribution.

The second purpose for this proposal is to provide an efficient road system that meets the long-term transportation needs. This would be accomplished by addressing the need to reduce average open and total road densities by decommissioning 46.8 miles of open road, closing and maintaining 1.5 miles of road, and converting 3 miles of road to sections of connecting snowmobile trails.

Proposed Action—The following actions have been identified to address the above needs. (1) Increase the amount of long-lived conifer adjacent to Class I and II trout streams by removing the overstory on 40 acres of balsam fir and aspen to release the white pine understory, and underplanting white pine; (2) promote white spruce, balsam fir and jack pine understories on 168 acres by removing the overstories to maintain short-needled conifer habitat for Regional Forester's Sensitive Species; (3) maintain northern hardwood continuity by converting 122 acres of mature aspen, balsam fir and paper birch to northern hardwood through the use of overstory removal; (4) maintain current forest composition within the Forest Plan objective ranges by shelterwood harvesting 102 acres of white pine and 15 acres of paper birch, and clearcutting 586 acres of aspen; (5) maintain desired levels and improve the quality of permanent openings on 549 acres by hand brushing, mowing, burning, and planting fruit trees and shrubs along northern edges; (6) increase age and size diversity of 6,250 acres of northern hardwood through selection harvest; (7) reduce the density of red pine, white spruce, and red oak stands by lowering stocking levels to the levels described in the Forest Plan by thinning 1,268 acres of red pine, white spruce, and red oak; (8) improve aspen age class distribution by regenerating 586 acres of aspen (same acres described in item 4) in different age classes, converting 243 acres of mature aspen to other forest types discussed under items 1-3; and regenerating 40 acres of balsam fir/aspen to aspen; (9) reduce open and total road densities by decommissioning 46.8 miles of open road, closing and maintaining 1.5 miles of road, and converting 3 miles of road to sections of connecting snowmobile trails.

Responsible Official—Anne Archie, Forest Supervisor of the Chequamegon-Nicolet National Forest is the Responsible Official who will make the project-level decisions on the Long Rail Project.

Nature of Decision To Be Made—The decision will be limited to answering the following questions based on the environmental analysis: (1) What actions would be used to address the purpose and need; (2) where and when will these actions occur; and (3) what mitigation measures and monitoring requirements would be required.

Scoping Process—The Chequamegon-Nicolet National Forest will scope for information by contacting persons and organizations on the District's mailing list, by publishing notices in the local newspapers, and by holding at least one public meeting in the Long Rail Project area. The present solicitation is for comments on this Notice of Intent and scoping materials available elsewhere, such as on the Forest's Web page.

Electronic Access and Filing AddressesInformation is available electronically on the Forest Web page: http://www.fs.fed.us/r9/cnnf/—click on “Natural Resources” and then on “Long Rail Project.” Send electronic comments to: comments-eastern-chequamegon-nicolet-eagle@fs.fed.us. When submitting electronic comments, please reference the Long Rail Project on the subject line. In addition, include your name and mailing address.

Comment Requested—This notice of intent initiates the scoping proces which guides the development of the environmental impact statement. Comments in response to this solicitation for information should focus on (1) the proposal described in numbers 1-9 of the proposed action; (2) possible alternatives for addressing issues associated with the proposal, and (3) any possible impacts associated with the proposal based on the individual's civil rights (race, color, national origin, age, religion, gender, disability, political beliefs, sexual orientation, or marital or family status). We are especially interested in information that might identify a specific undesired result of implementing the proposed action. Comments received in response to this solicitation, including names and addresses of those who comment, will be considered part of the public record on this proposed action and will be available for public inspection. Comments submitted anonymously will be accepted and considered; however, those who submit anonymous comments will not have standing to appeal the subsequent decision under 36 CFR parts 215 and 217.

Additionally, pursuant to 7 CFR 1.27(d), any person may request the agency to withold a submision from the public record by showing how the Freedom of Information Act (FOIA) permits such confidentiality. Persons requesting such confidentiality should be aware that, under FOIA, confidentiality may be granted in only very limited circumstances. The Forest Service will inform the requester of the agency's decision regarding the request for confidfentiality and, should the request be denied, return the submission and notify the requester that the comments may be resubmitted with or without name and address within 90 days.

Early Notice of Importance of Public Participation in Subsequent Environmental Review—A draft environmental impact statement will be prepared for comment. The comment period on the draft environmental impact statement will be 45 days from the date the Environmental Protection Agency publishes the notice of availability in the Federal Register. The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points. Comments received, including the names and addresses of those who comment, will be considered part of the public record on this proposal and will be available for public inspection.

(Authority: 40 CFR 1501.7 and 1508.22; Forest Service Handbook 1909.15, Section 21.)

Dated: May 31, 2005.
Anne F. Archie,
Forest Supervisor, Chequamegon-Nicolet National Forest.

Editorial Note: This document was received at the Office of the Federal Register on June 3, 2005.

[FR Doc. 05-11364 Filed 6-7-05; 8:45 am]

BILLING CODE 3410-11-P